DEPARTMENT OF LABOR

Employment and Training Administration

[NAFTA-5422]

TNS Mills, Inc., Spartansburg, SC; Notice of Termination of Investigation

Pursuant to Title V of the North American Free Trade Agreement Implementation Act (Pub. L. 103-182) concerning transitional adjustment assistance, hereinafter called NAFTA-TAA and in accordance with Section 250(a), Subchapter D, Chapter 2, title II, of the Trade Act of 1974, as amended (19 U.S.C. 2273), an investigation was initiated on October 11, 2001, in response to a petition filed by the company on behalf of workers at TNS Mills, Inc., Spartansburg, South Carolina.

The petitioner has requested that the petition be withdrawn. Consequently, further investigation in this case would serve no purpose, and the investigation has been terminated.

Signed at Washington, DC, this 16th day of November, 2001.
Linda G. Poole,
Acting Director, Office of Trade Adjustment Assistance.

[FR Doc. 01-29757 Filed 11-29-01; 8:45 am]

BILLING CODE 4510-30-P